DEPARTMENT OF COMMERCE

Bureau of Economic Analysis

[Docket Number 231102-0260]

Federal Economic Statistics Advisory Committee Meeting

AGENCY: Bureau of Economic Analysis, Department of Commerce.

ACTION: Notice of public meeting.

SUMMARY: The Bureau of Economic Analysis (BEA) is giving notice of a meeting of the Federal Economic Statistics Advisory Committee (FESAC or the Committee). The Committee advises the Under Secretary for Economic Affairs, the Directors of the Bureau of Economic Analysis and the Census Bureau, and the Commissioner of the U.S. Department of Labor's Bureau of Labor Statistics (BLS) on statistical methodology and other technical matters related to the collection, tabulation, and analysis of federal economic statistics. An agenda will be accessible prior to the meeting at https://apps.bea.gov/fesac/.

DATES: December 8, 2023. The meeting begins at 10 a.m. and adjourns at 3:30 p.m. (ET).

ADDRESSES: This meeting will be a hybrid event. Committee members and presenters will have the option to join the meeting in person or via video conference technology. All outside attendees will be invited to attend via video conference technology only. The meeting is open to the public via video conference technology. Contact Gianna Marrone at (301) 278-9282 or gianna.marrone@bea.gov by December 1, 2023, to RSVP. The Advisory Committee website will maintain the most current information on the meeting agenda, schedule, and location. These items may be updated without further notice in the Federal Register. Information about how to access the meeting and presentations will be posted 24 hours prior to the meeting on https://apps.bea.gov/fesac/.

FOR FURTHER INFORMATION CONTACT: Gianna Marrone, Program Analyst, U.S. Department of Commerce, Bureau of Economic Analysis, 4600 Silver Hill Road (BE-64), Suitland, MD 20746; phone (301) 278-9282; email gianna.marrone@bea.gov.

SUPPLEMENTARY INFORMATION: FESAC members are appointed by the Secretary of Commerce. The Committee advises the Under Secretary for Economic Affairs, BEA and Census Bureau Directors, and the Commissioner of the Department of Labor's BLS on statistical methodology and other technical matters related to the collection, tabulation, and analysis of federal economic statistics. The Committee is established in accordance with the Federal Advisory Committee Act (5 U.S.C. app. 2).

The Committee aims to have a balanced representation among its members, considering such factors as geography, age, sex, race, ethnicity, technical expertise, community involvement, and knowledge of programs and/or activities related to FESAC. Individual members are selected based on their expertise in or representation of specific areas as needed by FESAC.

This meeting is open to the public and is accessible to people with disabilities. Requests for foreign language interpretation, other auxiliary aids, or persons with extensive questions or statements should be directed to Gianna Marrone at gianna.marrone@bea.gov by December 1, 2023.

Authority: Federal Advisory Committee Act (FACA), as amended, 5 U.S.C., app.

Dated: November 2, 2023.
Sabrina Montes,
Designated Federal Officer, Bureau of Economic Analysis.

[FR Doc. 2023-24617 Filed 11-7-23; 8:45 am]

BILLING CODE 3510-06-P